OFFICE OF MANAGEMENT AND BUDGET

Statistical Policy Directive: Release and Dissemination of Statistical Products Produced by Federal Statistical Agencies

AGENCY: Office of Management and Budget, Executive Office of the President.

ACTION: Notice of solicitation of comments.

SUMMARY: Under 44 U.S.C. 3504(e), the Office of Management and Budget (OMB) is soliciting public comment on a proposal to issue a new Statistical Policy Directive for the release and dissemination of statistical products produced by Federal statistical agencies. In its role as coordinator of the Federal statistical system, 44 U.S.C. 3504(e) requires OMB, among other responsibilities, to ensure the efficiency and effectiveness of the system as well as the integrity, objectivity, impartiality, utility, and confidentiality of information collected for statistical purposes. It also requires OMB to develop and oversee the implementation of Governmentwide policies, principles, standards, and guidelines concerning the presentation and dissemination of statistical information. The 2001 Information Quality Act (Pub. L. 106-554, Sec. 1(a)(3) [title V, Sec. 515], Dec. 21, 2000, 114 Stat. 2763, 2763A-153, 44 U.S.C. Section 3516 note) similarly requires OMB, as well as all other Federal agencies, to maximize the quality, objectivity, utility, and integrity of information, including statistical information, provided to the public.

To operate efficiently and effectively, our democracy relies on the flow of objective, credible statistics to support the decisions of governments, businesses, households, and other organizations. Any loss of trust in the integrity of the Federal statistical system and its products could lessen respondent cooperation with Federal statistical surveys, decrease the quality of statistical system products, and foster uncertainty about the validity of measures our Nation uses to monitor and assess its performance and progress.

To further support the quality and integrity of Federal statistical information, OMB is proposing a new Statistical Policy Directive designed to preserve and enhance the objectivity and transparency, in fact and in perception, of the processes used to release and disseminate the Government's statistical products. The procedures in the proposed directive are intended to ensure that statistical data releases adhere to data quality standards through equitable, policy-neutral, and timely release of information to the general public. Additional discussion of the proposal and a draft of the directive may be found in the SUPPLEMENTARY INFORMATION section below. OMB is seeking public comment on the desirability of issuing the proposed directive as well as suggestions to improve its clarity, efficiency, and usefulness.

DATES: Effective Date: To ensure consideration, all comments must be received in writing on or before October 1, 2007.

ADDRESSES: Please send all comments on this proposal to: Katherine K. Wallman, Chief Statistician, Office of Management and Budget, 10201 New Executive Office Building, Washington, DC 20503, telephone number: (202) 395-3093, fax number: (202) 395-7245. You may send comments via e-mail to DisseminationDirective@omb.eop.gov with subject Comments0107. Because of delays in the receipt of regular mail, respondents are encouraged to use electronic communications. All comments submitted in response to this notice will be made available to the public, including by posting them on OMB's Web site. For this reason, please do not include in your comments information of a confidential nature, such as sensitive personal information or proprietary information.

Electronic Availability: This document is available on the Internet on the OMB Web site at http://www.omb.gov/inforeg/ssp/dissemination.

Availability of Comment Materials: In addition to posting on the OMB Web site, paper copies of all comments received will be available for public viewing at the Office of Management and Budget, Office of Information and Regulatory Affairs (OIRA) during normal business hours, 9 a.m. to 5:30 p.m., in 10201 New Executive Office Building, 725 17th Street, NW., Washington, DC 20503. Please call Mabel Echols at (202) 395-3094 to make an appointment if you wish to view the comments received in response to this notice.

FOR FURTHER INFORMATION CONTACT: Paul Bugg, 10201 New Executive Office Building, Washington, DC 20503, e-mail address: pbugg@omb.eop.gov with subject Dissemination Directive, telephone number: (202) 395-3095, fax number: (202) 395-7245.

SUPPLEMENTARY INFORMATION: Trust in the accuracy, objectivity, and reliability of Federal statistics is essential to the ongoing and increasingly complex policy and planning needs of governmental and private users of these products. Consequently, there has been a long-standing concern about the need to maintain public confidence in the objectivity of Federal statistics. For example, in 1962, the President's Committee to Appraise Employment and Unemployment Statistics, stated:

The need to publish the information in a nonpolitical context cannot be overemphasized. * * * a sharper line should be drawn between the release of the statistics and their accompanying explanation and analysis, on the one hand, and the more general type of policy-oriented comment which is a function of the official responsible for policy making, on the other.

In 1971, the Nixon Administration was widely criticized for the way it publicly characterized some Bureau of Labor Statistics unemployment data at the time of their release. In response, the Congress instituted the monthly Joint Economic Committee hearings on the unemployment rate and OMB issued Statistical Policy Directive No. 3 to provide guidance to Executive branch agencies on the compilation and release of Principal Federal Economic Indicators. Directive No. 3 provides for the designation of statistical series that provide timely measures of economic activity as Principal Economic Indicators, and requires prompt but orderly release of such indicators. The stated purposes of Directive No. 3 are to preserve the time value of the economic indicators, strike a balance between timeliness and accuracy, provide for periodic evaluation of each indicator, prevent early access to information that may affect financial and commodity markets, and preserve the distinction between the policy-neutral release of data by statistical agencies and their interpretation by policy officials.

In 1973, the American Statistical Association—Federal Statistics Users' Conference Committee on the Integrity of Federal Statistics reported that:

Nothing could undermine the politician and implementation of his policy recommendations as much as an accumulated and intense public distrust in the statistical basis for the decisions which the policy-maker must inevitably make, or in the figures by which the results of these decisions are measured. Unless definite action is taken to maintain public confidence in Federal statistics and in the system responsible for their production, there will be growing tendencies to distrust leadership.

With respect to trust in the Federal statistical system, President George H.W. Bush stated in 1990:

It is of paramount importance to this Administration that these fundamental principles of the Federal statistical system are strictly maintained so that the accuracy and integrity of Government data are not threatened.

In 1995, the Congress reauthorized the Paperwork Reduction Act (PRA), which makes OMB responsible, among other requirements, for coordination of the Federal statistical system to ensure the integrity, objectivity, impartiality, utility, and confidentiality of information collected for statistical purposes.

In 1996, the United States was a charter subscriber to the International Monetary Fund's Special Data Dissemination Standard (SDDS), which guides over 60 member nations in the provision of their economic and financial data to the public. The elements of the SDDS for access, integrity, and quality emphasize transparency in the compilation and dissemination of statistics. For example,

• To support ready and equal access, the SDDS prescribes (a) advance dissemination of release calendars and (b) simultaneous release to all interested parties.

• To assist users in assessing the integrity of the data disseminated under the SDDS, the SDDS requires (a) The dissemination of the terms and conditions under which official statistics are produced and disseminated; (b) the identification of internal government access to data before release; (c) the identification of ministerial commentary on the occasion of statistical release; and (d) the provision of information about revision and advance notice of major changes in methodology.

• To assist users in assessing data quality, the SDDS requires (a) The dissemination of documentation on statistical methodology and (b) the dissemination of component detail, reconciliations with related data, and statistical frameworks that make possible cross-checks and checks of reasonableness.

In 2001, the Congress passed the Information Quality Act, which directs OMB to issue Government-wide information quality guidelines to ensure the “quality, objectivity, utility, and integrity” of all information, including statistical information, disseminated by Federal agencies.

In 2005, the National Research Council (NRC) of the National Academy of Sciences published the third edition of its Principles and Practices for a Federal Statistical Agency, which enumerates three principles and eleven core practices for Federal statistical agencies. The principles address: (1) Relevance to policy issues, (2) credibility among data users, and (3) trust among data providers. Among the essential core practices, the NRC lists a strong measure of independence, wide dissemination of data, and commitment to quality and professional standards of practice.

The Principles and Practices report states that a credible and effective statistical organization:

* * * must be, and must be perceived to be, free of political interference and policy advocacy. * * * Without the credibility that comes from a strong degree of independence, users may lose trust in the accuracy and objectivity of the agency's data, and data providers may become less willing to cooperate with agency requests. * * * [A statistical agency] must be impartial and avoid even the appearance that its collection, analysis, and reporting processes might be manipulated for political purposes* * *.

Elements of an effective dissemination program include: A variety of avenues for data dissemination, chosen to reach as broad a public as reasonably possible; procedures for release of information that preclude actual or perceived political interference; adherence to predetermined release schedules for important indicators serves to prevent even the appearance of manipulation of release dates for political purposes.

In May 2006, the National Science Board, which is charged with serving as adviser to the President and Congress on policy matters related to science and engineering research and education, concluded that:

A clear distinction should be made between communicating professional research results and data versus the interpretation of data and results in a context that seeks to influence, through the injection of personal viewpoints, public opinion or the formulation of public policy. Delay in taking these actions may contribute to a potential loss of confidence by the American public and broader research community regarding the quality and credibility of Government sponsored scientific research results.

Moreover, in June 2006, the Government Accountability Office issued a report on Data Quality that finds that expanded use of key dissemination practices would further safeguard the integrity of Federal statistical data. This report discusses the desirability of OMB's issuing a new Statistical Policy Directive that extends dissemination procedures similar to those of the NRC's recommended practices and the long-standing Statistical Policy Directive No. 3 on the Compilation, Release, and Evaluation of Principal Federal Economic Indicators more broadly to encompass a larger set of Federal statistical products.

The proposed Statistical Policy Directive, presented below, extends the applicable processes of the NRC's recommended practices and Statistical Policy Directive No. 3, which applies only to Principal Federal Economic Indicators, to a greater range of Federal statistical products. The proposed directive seeks to address concerns with equitable, policy-neutral, and timely release and dissemination of general-purpose statistical information to the public and to reinforce the integrity and transparency of the processes used to produce and release the Nation's statistical products. (The proposed directive is not intended to address other issues relating to statistical products, such as the appropriate funding levels for statistical activities and the policy decisions regarding what kinds of data an agency should collect and maintain, as well as the corresponding intra-governmental reporting relationships.) OMB welcomes comments on the desirability of issuing the proposed directive as well as suggestions to improve its clarity, efficiency, and usefulness.

Susan E. Dudley,
Administrator, Office of Information and Regulatory Affairs.

Statistical Policy Directive No. XX; Release and Dissemination of Statistical Products Produced by Federal Statistical Agencies

Authority and Purpose

This Directive provides guidance to Federal statistical agencies on the release and dissemination of statistical products. The Directive is issued under the authority of the Budget and Accounting Procedures Act of 1950 (31 U.S.C. 1104(d)), the Paperwork Reduction Act (PRA) of 1995 (44 U.S.C. 3504(e)), and Office of Management and Budget (OMB) policies including the Information Quality Act guidelines (67 FR 8451-8460) and OMB Circular No. A-130. Under the Information Quality Act (PL. 106-554; H.R. 5658, Section 515, 114 Stat. 2763A-153 to 2763A-154 (2000), 44 U.S.C. Section 3516 note) and associated guidelines, agencies are to maximize the quality, objectivity, utility, and integrity of information, including statistical information, provided to the public. This includes making information available on an equitable and timely basis. The procedures in this Directive are intended to ensure that statistical data releases adhere to data quality standards through equitable, policy-neutral, and timely release of information to the general public.

Introduction

Statistics produced by the Federal Government are used to shape policies, manage and monitor programs, identify problems and opportunities for improvement, track progress, and measure change. These statistics must meet high standards of reliability, accuracy, timeliness, and objectivity in order to provide a sound and efficient basis for decisions and actions by governments, businesses, households, and other organizations. These data must be objective and free of bias in their presentation and available to all in forms that are readily accessible and understandable.

To be collected and used efficiently, statistical products must gain and preserve the trust of the respondent and user communities; data must be collected and distributed free of any perceived or actual partisan intervention. Widespread recognition of the Federal statistical system's policy-neutral data collection and dissemination fosters such trust. This trust, in turn, engenders greater cooperation from respondents and higher quality statistics for data users.

1. Scope. This Statistical Policy Directive applies to the full range of statistical products disseminated by Federal statistical agencies or units. However, the Directive excludes coverage of the Principal Federal Economic Indicators addressed in Statistical Policy Directive No. 3, Compilation, Release, and Evaluation of Principal Federal Economic Indicators, which have their own established release and evaluation procedures. Unless otherwise specified in statute, statistical agencies or units are directly and solely responsible for the content, quality, and dissemination of their products. When implementing this Directive, statistical agencies must follow all relevant Statistical Policy Directives and guidance including the principles and practices presented in OMB's Information Quality Guidelines and Statistical Policy Directives providing standards and guidelines for statistical surveys.

2. Statistical Products. Statistical products are, generally, information dissemination products that are published or otherwise made available for public use that describe, estimate, forecast, or analyze the characteristics of groups, customarily without identifying the persons, organizations, or individual data observations that comprise such groups. Statistical products include general-purpose tabulations, analyses, projections, forecasts, or other statistical reports. For purposes of this Directive, a “statistical press release” is an announcement to media of a statistical product release that contains the title, subject matter, release date, and Internet address of, and other availability information about, the statistical product, and may include any executive summary information or key findings section as shown in the statistical product. A statistical press release announcing or presenting statistical data is defined as a statistical product and is covered by the provisions of this Directive. Federal statistical agencies or units may issue their statistical products in printed and/or electronic form, but must provide access to them on their Internet sites. Agencies should assess the needs of data users and provide a range of products to address those needs by whatever means practicable. Information to help users interpret data accurately, including transparent descriptions of the sources and methodologies used to produce the data, must be equitably available for Federal statistical products. These products shall contain or reference appropriate information on the sources, methodologies, and limitations of the data as well as other information such as explanations of other related measures to assist users in the appropriate treatment and interpretation of the data.

3. Statistical Agencies or Units. As defined by the Confidential Information Protection and Statistical Efficiency Act of 2002 (116 STAT. 2963), a Federal statistical agency is an organizational unit of the executive branch whose activities are predominantly the collection, compilation, processing, or analysis of information for statistical purposes. Statistical purpose means the description, estimation, or analysis of the characteristics of groups, customarily without identifying the persons, organizations, or individual data observations that comprise such groups, as well as researching, developing, implementing, maintaining, or evaluating methods, administrative or technical procedures, or information resources that support such purposes. A statistical agency or unit may be labeled an administration, bureau, center, division, office, service, or similar title, so long as it is recognized as a distinct entity. When a statistical agency provides services for a separate sponsoring agency on a reimbursable basis, the provisions of this Directive normally shall apply to the sponsoring agency.

4. Timing of Release. The timing of the release of statistical products, including statistical press releases, regardless of physical form or characteristic, shall be the sole responsibility of the statistical agency or unit that is directly responsible for the content, quality, and dissemination of the data. Agencies should strive to minimize the interval between the period to which the data refer and the date when the product is released to the public.

5. Notification of Release. Prior to the beginning of the calendar year, the releasing statistical agency shall annually provide the public with a schedule of when each regular or recurring statistical product is expected to be released during the upcoming calendar year by publishing it on its Web site. Agencies must issue any revisions to the release schedule in a timely manner on their Web sites.

6. Dissemination. Statistical agencies must ensure that all users have equitable and timely access to data that are disseminated to the public. If there are revisions to the data after an initial release, notification must also be given to the public about these changes in an equitable and timely manner. A statistical agency should strive for the widest, most accessible, and appropriate dissemination of its statistical products and ensure transparency in its dissemination practices by providing complete documentation of its dissemination policies on its Web site. The statistical agency is responsible for ensuring that this documentation remains accurate by reviewing and updating it regularly so that it reflects the agency's current dissemination practices.

In unusual circumstances, the requirement that all users initially have equitable and timely access to statistical products may be waived by the releasing statistical agency if the head of the agency determines that the value of a particular type of statistical product, such as health or safety information, is so time-sensitive to specific stakeholders that normal procedures to ensure equitable and timely access to all users would unduly delay the release of urgent findings to those to whom the information is critical. All such instances must be reported to OMB within 30 calendar days of the agency's waiver determination.

Agencies should use a variety of vehicles to attain a data dissemination program designed to reach data users in an equitable and timely manner. Agencies must publish statistical products available to the public on their Web sites and may also provide them in printed or other electronic formats. In undertaking any dissemination of statistical products, agencies must continue to ensure that they have fulfilled their responsibilities to preserve the confidentiality and security of respondent data. When appropriate to facilitate in-depth research, and feasible in the presence of resource constraints, statistical agencies should provide public access to microdata files with secure safeguards to protect the confidentiality of individually-identifiable responses and with readily accessible documentation, metadata, or other means to facilitate user access to and manipulation of the data.

Statistical agencies are encouraged to use a variety of forums and strategies to release their statistical products. These include conferences, exhibits, presentations, workshops, list serves, the Government Printing Office, public libraries, and outreach to the media including news conferences and statistical press releases as well as media briefings to improve the media's understanding of the data and the quality and extent of media coverage of the statistics.

a. Outreach to the Media

To accelerate and/or expand the dissemination of data to the public, statistical agencies are encouraged to issue a statistical press release when releasing their products. To maintain a clear distinction between statistical data and policy interpretations of such data, the statistical press release must be produced and issued by the statistical agency and must provide a policy-neutral description of the data; it must not include policy pronouncements. To the extent that any policy pronouncements are to be made regarding the data, those pronouncements are to be made by Federal executive policy officials, not by the statistical agency. Accordingly, these policy officials may issue separate independent statements on the data being released by the statistical agency, and these officials may review the draft statistical press release to ensure that it does not include policy pronouncements.

In cases in which the statistical unit currently relies on its parent agency for the public affairs function, the statistical agency should coordinate with public affairs officials from the parent organization on the dissemination aspects of the statistical press release process, including planning and scheduling of annual release dates.

b. Pre-Release Access to Final Statistical Products

To support the goal of maximizing the public's access to quality data, statistical agencies may provide pre-release access to their final statistical products. A statistical product is final when the releasing statistical agency determines that the product fully meets the agency's data quality standards and requires no further changes. The purpose of pre-release access is to foster improved public understanding of the data when they are first released and the accuracy of any initial commentary about the information contained in the product. Pre-release access to final statistical products may be provided under embargo or through secure pre-release access. The releasing statistical agency determines which final statistical products will be made available under these pre-release provisions and which method of pre-release will be employed.

c. Embargo

Embargo means that pre-release access is provided with the explicit acknowledgement of the receiving party that the information cannot be further disseminated or used in any unauthorized manner before a specific date and time.

The statistical agency may grant pre-release access via an embargo under the following conditions:

1. The agency shall establish arrangements and impose conditions on the granting of an embargo that are necessary to ensure that there is no unauthorized dissemination or use.

2. The agency shall ensure that any person or organization granted access under an embargo has been fully informed of, and has acknowledged acceptance of, these conditions.

3. In all cases, pre-release access via an embargo shall precede the official release time only to the extent necessary for an orderly release of the data.

4. If an embargo is broken, the agency must release the data to the public immediately.

d. Secure Pre-Release Access

For some data that are particularly sensitive or move markets, statistical agency heads may choose to provide secure pre-release access. Secure pre-release access means that pre-release access is provided only within the confines of secure physical facilities with no external communications capability. When the head of a releasing statistical agency determines that secure pre-release access is required, the agency shall provide pre-release access to final statistical products only when it uses secure pre-release procedures.

7. Announcement of Changes in Data Series. Statistical agencies shall announce, in an appropriate and accessible manner as far in advance of the change as possible, significant planned changes in data collection, analysis, or estimation methods that may affect the interpretation of their data series. In the first report affected by the change, the agency must include a complete description of the change and its effects and place the description on its Internet site, if the report is not otherwise available there.

8. Revisions and Corrections of Data. For some statistical products, statistical agencies produce preliminary estimates or initial releases that will subsequently be updated and finalized. Whenever preliminary data are released, they must be identified as preliminary and the release must indicate that an updated or final revision is expected. In applicable cases, the expected date of such revisions must be included. Reference to the preliminary release and appropriate explanations of the methodology and reasons for the revisions must be provided or referenced in any updated or final releases.

Consistent with each agency's information quality guidelines, statistical agencies must also establish a policy for handling unscheduled corrections due to previously unrecognized errors. Agencies have an obligation to alert users as quickly as possible to any such changes, to explain corrections or revisions that result from any unscheduled corrections, and to make appropriate changes in all product formats—including statistical press releases.

9. Granting of Exceptions. Prior to taking any action that may violate the provisions of this Directive, the head of a releasing statistical agency shall consult with OMB's Administrator for Information and Regulatory Affairs. If the Administrator determines that the action is in violation of the provisions of this Directive, the head of the releasing statistical agency may apply for an exception. The Administrator may authorize exceptions to the provisions in sections 4, 5, 6, 7, and 8 of this Directive. Any agency requesting an exception must demonstrate to the satisfaction of the Administrator that the proposed exception is necessary and is consistent with the purposes of this Directive.

[FR Doc. E7-14908 Filed 7-31-07; 8:45 am]

BILLING CODE 3110-01-P